DEPARTMENT OF VETERANS AFFAIRS

[OMB Control No. 2900-NEW]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to identify health care patterns of minority veterans.

DATES: Written comments and recommendations on the proposed collection of information should be received on or before August 4, 2000.

ADDRESSES: Submit written comments on the collection of information to Ann W. Bickoff, Veterans Health Administration (193B1), Department of Veterans Affairs, 810 Vermont Avenue, NW, Washington, DC 20420. Please refer to “OMB Control No. 2900-NEW” in any correspondence.

FOR FURTHER INFORMATION CONTACT: Ann W. Bickoff (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Veterans Identity Program Survey, VA Form 10-21037(NR).

OMB Control Number: 2900-NEW.

Type of Review: New collection.

Abstract: The Veteran Identity Program (VIP) survey is intended to remedy shortcomings of existing data and research conducted on minority veterans health care patterns. Previous studies on veterans ethnicity have not been adequately studied due to the sampling methodologies employed, and veteran identity has never been studied due to theoretical shortsightedness. As a result, data on underrepresented veterans groups remains inadequate. Veteran identity is being introduced as a potentially significant predictor of veterans' health care use. The VIP will employ a primary data telephone survey to ensure adequate representation of underrepresented veterans groups. The collected data will be statistically analyzed by VIP researchers to determine how veteran identity and ethnicity predict VA ambulatory care service use by veterans. The results of the analysis will be used to improve minority veterans' access to health care.

Affected Public: Individuals or Households.

Estimated Annual Burden: 960 hours.

Estimated Average Burden Per Respondent: 18 minutes.

Frequency of Response: One time.

Estimated Number of Respondents: 3,200.

Dated: May 18, 2000.
By direction of the Secretary.
Donald L. Neilson,
Director, Information Management Service.

[FR Doc. 00-13921 Filed 6-2-00; 8:45 am]

BILLING CODE 8320-01-P